DEPARTMENT OF ENERGY

Federal Energy Regulatory Commission

[Project No. 3777-011]

Town of Rollinsford, New Hampshire; Notice Soliciting Scoping Comments

Take notice that the following hydroelectric license application has been filed with the Commission and is available for public inspection.

a. Type of Application: Subsequent Minor License.

b. Project No.: 3777-011.

c. Date filed: August 29, 2019.

d. Applicant: Town of Rollinsford, New Hampshire (Town).

e. Name of Project: Rollinsford Project.

f. Location: On the Salmon Falls River in Strafford County, New Hampshire and York County, Maine. No federal lands are occupied by the project works or located within the project boundary.

g. Filed Pursuant to: Federal Power Act, 16 U.S.C. 791(a)-825(r).

h. Applicant Contact: Mr. John Greenan, Green Mountain Power Corporation, 1252 Post Road, Rutland, VT 05701; Phone at (802) 770-2195, or email at John.Greenan@greenmountainpower.com.

i. FERC Contact: Bill Connelly, (202) 502-8587 or william.connelly@ferc.gov.

j. Deadline for filing scoping comments: March 30, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3777-011.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The existing Rollinsford Project consists of: (1) A 317-foot-long, 19-foot-high concrete-masonry dam that includes, from east to west: (a) A 12-foot-long left abutment, (b) a 247-foot-long overflow spillway section topped with 15-inch-high flashboards, (c) a 22-foot-long right abutment; and (d) a 36-foot-long gated section consisting of five, 5.5-foot-high by 5.5-foot-wide vertical lift gates that convey flow to the intake headworks; (2) a 70-acre impoundment with a gross storage capacity of 456 acre-feet at a normal maximum elevation of 71.25 feet National Geodetic Vertical Datum of 1929 (NGVD 29),¹ including the spillway flashboards; (3) an 82-foot-long, 52-foot-wide intake headworks facility that consists of: (a) A 22.8-foot-wide, 15.7-foot-high penstock intake protected by a 22.8-foot-wide by 17.6-foot-high trash rack structure with 2.5-inch clear bar spacing, (b) an 8-foot-wide skimmer waste gate, and (c) a 4-foot-wide by 4-foot-high inoperable sluice gate; (4) a 350-foot-long, 10-square-foot concrete penstock that empties into a 250-foot-long, 9-foot diameter steel penstock that directs flow to a 30-foot-long, 40-foot-wide reinforced concrete forebay that is integral with the powerhouse; (5) a 38-foot-long, 60-foot-wide concrete and brick masonry powerhouse containing two, vertical Francis turbine-generator units rated at 750 kilowatts (kW) each for a total installed capacity of 1,500 kW; (6) a 38-foot-long, 34-foot-wide tailrace channel at a normal tailwater surface elevation of 24 feet NGVD 29; (7) a 100-foot-long underground transmission line that extends from the powerhouse to a step-up transformer where voltage is increased from 4.16-kilovolt (kV) to 13.8 kV; and (8) appurtenant facilities.

¹ NGVD 29 is a national standard for measuring elevations above sea level.

The Town voluntarily operates the project in a run-of-river mode using an automatic pond level control system, such that outflow from the project approximates inflow. The project bypasses approximately 680 feet of the Salmon Falls River. The existing license requires the licensee to release: (1) A continuous minimum flow of 10 cubic feet per second (cfs) or inflow, whichever is less, from the dam to the bypassed reach; and (2) a minimum flow of 115 cfs or inflow, whichever is less, through the powerhouse to the downstream reach. When inflow falls below the minimum hydraulic capacity of the powerhouse (80 cfs), the minimum flow requirement for the downstream reach is met by releasing flows over the dam. The average annual generation was 5,837,900 kilowatt-hours for the period of record from 2005 to 2018.

The Town proposes to: (1) Continue to operate the project in a run-of-river mode using an automatic pond level control system, and maintain the impoundment at the flashboard crest elevation of 71.25 feet NGVD 29; (2) provide a minimum flow release of 35 cfs, or inflow, whichever is less into the bypassed reach; (3) conduct an eel ramp siting study and install and operate an upstream eel ramp; (4) install and operate a downstream fish passage facility for adult eels and resident and migratory fish species; (5) implement nighttime turbine shutdowns from 8 p.m. to 4 a.m. during the months of September and October for 3 consecutive nights following rain accumulations of 0.5 inch or more over a 24-hour period; (6) conduct a study to quantify movements of river herring and American shad migrating downstream from the project tailwater through the bypassed reach to the project dam; and (7) consult with the New Hampshire and Maine State Historic Preservation Officers before beginning any land-disturbing activities or alterations to determine the need to conduct surveys and implement avoidance or mitigation measures before undertaking the action.

m. A copy of the application is available for review at the Commission in the Public Reference Room or may be viewed on the Commission's website at http://www.ferc.gov using the “eLibrary” link. Enter the docket number excluding the last three digits in the docket number field to address the document. For assistance, contact FERC Online Support. A copy is also available for inspection and reproduction at the address in item (h) above.

n. You may also register online at http://www.ferc.gov/docs-filing/esubscription.asp to be notified via email of new filings and issuances related to this or other pending projects. For assistance, contact FERC Online Support.

o. Scoping Process

Commission staff intends to prepare a single Environmental Assessment (EA) for the Rollinsford Project in accordance with the National Environmental Policy Act. The EA will consider both site-specific and cumulative environmental impacts and reasonable alternatives to the proposed action.

At this time, we do not anticipate holding on-site scoping meetings. Instead, we are soliciting comments and suggestions on the preliminary list of issues and alternatives to be addressed in the EA, as described in Scoping Document 1 (SD1), issued February 28, 2020.

Copies of the SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 28, 2020..
Kimberly D. Bose,
Secretary.

[FR Doc. 2020-04518 Filed 3-4-20; 8:45 am]

BILLING CODE 6717-01-P